DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 20, 2000.

Interested persons are invited to submit written comments regarding the subject matter of the investigations to the Director, Division of Trade Adjustment Assistance, at the address shown below, not later than July 20, 2000.

The petitions filed in this case are available for inspection at the Office of the Director, Division of Trade Adjustment Assistance, Employment and Training Administration, U.S. Department of Labor, 200 Constitution Avenue, NW., Washington, DC 20210.

Signed at Washington, DC, this 26th day of June, 2000.
Edward A. Tomchick,
Director, Division of Trade Adjustment Assistance.

Appendix
[Petitions instituted on 6/26/00]
TA-W | Subject firm (petitioners) | Location | Date of petition | Product(s)
37,812 | Amway Corp (Wrks) | Ada, MI | 06/09/00 | Jewelry, Cookware, Foods, Crystal Prod.
37,813 | Seton Co (Co) | Saxton, PA | 06/05/00 | Cut-To-Pattern Leather Pieces.
37,814 | Allied Signal (Wrks) | Torrance, CA | 06/08/00 | Turbo Chargers for Vehicles.
37,815 | Tetra Pipe Sales (Wrks) | Midland, TX | 06/15/00 | Pipeyard-Oil.
37,816 | Multiplex Technology, Inc (Co) | Brea, CA | 06/13/00 | Audio, Video, Data & Telecommunication.
37,817 | DHL (Wrks) | Houston, TX | 06/14/00 | Data Entry Billing.
37,818 | Arco Marine, Inc (Wrks) | Long Beach, CA | 06/16/00 | Transport Oil.
37,819 | Modern Engineering Co (Wrks) | Gallman, MS | 06/15/00 | Welding and Cutting Tips.
37,820 | Ametek US Gauge (IAMAW) | Sellersville, PA | 06/06/00 | Component Parts—Compressed Gas Gages.
37,821 | Cross Huller (Wrks) | Sterling Height, MI | 06/14/00 | Casting Weldments.
37,822 | Kalkstein Silk Mills (UNITE) | Paterson, NJ | 05/30/00 | Silk Polyester Fabric.
37,823 | Carleton Woolen Mills (PACE) | Winthrop, ME | 06/14/00 | Wool Cloth.
37,824 | Avian Farms (Wrks) | Waterville, ME | 06/12/00 | Chickens for the Breeder.
37,825 | Georgia Pacific Corp (PACE) | Woodland, ME | 06/15/00 | 2×4's and 2×6's.
37,826 | Blastco (Wrks) | Odessa, TX | 06/10/00 | Plant Demolition.
37,827 | Kym Co (The) (Comp) | Jackson, GA | 05/15/00 | Pants and Shorts.
37,828 | Johnstown Corp (USWA) | Johnstown, PA | 06/09/00 | Steel Castings, Rolling Mill Rolls.
37,829 | Bucilla Corp (Wrks) | Hazleton, PA | 06/01/00 | Handstitched Needlework.
37,830 | Grand Haven Brass Foundry (Wrk) | Grand Haven, MI | 06/13/00 | Plumbing Fixtures.
37,831 | Occidental Chemical Corp (Co) | Niagara Falls, NY | 06/15/00 | Chemicals.

[FR Doc. 00-17305 Filed 7-7-00; 8:45 am]

BILLING CODE 4510-30-M